DEPARTMENT OF THE INTERIOR

National Park Service

[NPS-WASO-NAGPRA-20686; PPWOCRADN0-PCU00RP14.R50000]

Notice of Intent To Repatriate Cultural Items: Kansas State Historical Society, Topeka, KS

AGENCY: National Park Service, Interior.

ACTION: Notice.

SUMMARY: The Kansas State Historical Society, in consultation with the appropriate Indian tribes or Native Hawaiian organizations, has determined that the cultural items listed in this notice meet the definition of unassociated funerary objects. Lineal descendants or representatives of any Indian tribe or Native Hawaiian organization not identified in this notice that wish to claim these cultural items should submit a written request to the Kansas State Historical Society. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Kansas State Historical Society at the address in this notice by May 23, 2016.

ADDRESSES: Dr. Robert J. Hoard, State Archeologist, Kansas State Historical Society, 6425 SW. 6th Avenue, Topeka, KS 66615-1099, telephone (785) 272-8681 ext. 269, email rhoard@kshs.org.

SUPPLEMENTARY INFORMATION: Notice is here given in accordance with the Native American Graves Protection and Repatriation Act (NAGPRA), 25 U.S.C. 3005, of the intent to repatriate cultural items in the possession of the Kansas State Historical Society that meet the definition of unassociated funerary objects under 25 U.S.C. 3001.

This notice is published as part of the National Park Service's administrative responsibilities under NAGPRA, 25 U.S.C. 3003(d)(3). The determinations within this notice are the sole responsibility of the museum, institution, or Federal agency that has control of the Native American cultural items. The National Park Service is not responsible for the determinations within this notice.

History and Description of the Cultural Items

In 1964, artifact collectors excavated 18 cultural items and two human burials at the Doniphan site, 14DP2, in Doniphan County, KS. The human remains were reburied at the site after osteological analysis by the Kansas State Historical Society, but the 18 associated funerary objects, consisting of 5 projectile points, 11 white glass beads, and 2 small metal rings were given to the Kansas State Historical Society. These are identified by the designation UBS 1991-105.

The Doniphan site has long been known to be a Kaw village, though earlier components also are present. It was visited by French Military office Étienne Veniard de Bourgmont in 1724 on his way to visit western tribes. This village also may be the one that appears on the 1718 map by Delisle and noted as ruins by Lewis and Clark in 1805.

Between 1904 and 1935, human remains and 154 artifacts were removed from the Blue Earth site, 14PO24, Pottawatomie County, KS, by Kansas State University faculty member J.V. Cortelyou. In 1956, the human remains and artifacts were donated to the Kansas State Historical Society. The human remains were destroyed by the Kansas State Historical Society in 1957 and 1958, according to an accession book, but the funerary objects were retained. The 154 unassociated funerary objects are 1 disk shell bead, 3 small burned bone fragments, 1 Dentalium bead, 140 shell disk beads, 2 shell pendants/ornaments, 1 drilled stone object, 1 incised stone pipe, and 5 incised bone beads. These are identified by the designation UBS 1991-99.

The Blue Earth Village is shown on a 1795 map by Antoine Soulard and is identified as a Kaw site. It was the principle Kaw village for approximately 30 years. It was partially excavated in 1937 by archaeologist Waldo Wedel and tested by archaeologist John Tomasic of the Kansas State Historical Society in 2012. Both excavations produced material consistent with a Kaw occupation. Zebulon Pike also traded with the Kaw at this location in 1806.

Determinations Made by the Kansas State Historical Society

Officials of the Kansas State Historical Society have determined that:

• Pursuant to 25 U.S.C. 3001(3)(B), the 172 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Kaw Nation, Oklahoma.

Additional Requestors and Disposition

Lineal descendants or representatives of any Indian tribe or Native Hawaiian organization not identified in this notice that wish to claim these cultural items should submit a written request with information in support of the claim to Dr. Robert J. Hoard, State Archeologist, Kansas State Historical Society, 6425 SW. 6th Avenue, Topeka, KS 66615-1099, telephone (785) 272-8681 ext. 269, email rhoard@kshs.org, by May 23, 2016. After that date, if no additional claimants have come forward, transfer of control of the unassociated funerary objects to the Kaw Nation, Oklahoma may proceed.

The Kansas State Historical Society is responsible for notifying the Kaw Nation, Oklahoma that this notice has been published.

Dated: March 22, 2016.
Melanie O'Brien,
Manager, National NAGPRA Program.

[FR Doc. 2016-09262 Filed 4-20-16; 8:45 a.m.]

BILLING CODE 4312-50-P